DEPARTMENT OF ENERGY

Federal Energy Regulatory Commission

[Project No. 6661-006]

Falls Creek HP Limited Partnership; Eagle Creek Renewable Energy, LLC; Notice of Transfer of Exemption

1. On September 17, 2019, Falls Creek HP Limited Partnership, exemptee for the Falls Creek Hydroelectric Project No. 6661, filed a letter notifying the Commission that the project was transferred from Falls Creek HP Limited Partnership to Eagle Creek Renewable Energy, LLC. The exemption from licensing was originally issued on March 4, 1983.¹ The project is located on the Falls Creek, South Santiam River, Linn County, OR. The transfer of an exemption does not require Commission approval.

¹ Frontier Technology, Inc., 22 FERC ¶ 61,267 (1983). The project was transferred to Falls Creek HP Limited Partnership in 1989.

2. Eagle Creek Renewable Energy, LLC is now the exemptee of the Falls Creek Hydroelectric Project No. 6661. All correspondence must be forwarded to: Mr. Robert Gates, Eagle Creek Renewable Energy, LLC, 116 N State Street, P.O Box 167, Neshkoro, WI 54960-0167, Phone: 973-998-8403, Email: bob.gates@eaglecreekre.com.

Dated: October 25, 2019.
Kimberly D. Bose,
Secretary.

[FR Doc. 2019-23837 Filed 10-31-19; 8:45 am]

BILLING CODE 6717-01-P